DEPARTMENT OF THE INTERIOR

Minerals Management Service

Notice of Availability of the Record of Decision for Outer Continental Shelf (OCS), Western Gulf of Mexico (GOM), Oil and Gas Lease Sale 204

AGENCY: Minerals Management Service, Interior.

ACTION: Notice of availability of the Record of Decision.

SUMMARY: The Minerals Management Service (MMS) has issued a Record of Decision for OCS Western GOM Lease Sale 204 (August 2007). As part of the decision process, MMS published in April 2007 a final environmental impact statement (EIS) on the 2007-2012 Western and Central GOM oil and gas leasing proposals, including Sale 204. In preparing this decision, MMS has considered alternatives to the proposed actions, the impacts of Sale 204 as presented in the EIS, and all comments received throughout the EIS-process.

Availability: To obtain a copy of the Record of Decision and Final EIS, you may contact the Minerals Management Service, Gulf of Mexico OCS Region, Public Information Office (MS 5034), 1201 Elmwood Park Boulevard, Room 114, New Orleans, Louisiana 70123-2394 (1-800-200-GULF). An electronic copy of the Record of Decision and Final EIS are available at the MMS's Internet Web site at: http://www.gomr.mms.gov/homepg/regulate/environ/nepa/nepaprocess.html.

FOR FURTHER INFORMATION CONTACT: Mr. Dennis Chew, Minerals Management Service, Gulf of Mexico OCS Region, 1201 Elmwood Park Boulevard, New Orleans, Louisiana 70123-2394, (504) 736-2793.

Dated: July 11, 2007.
Chris C. Oynes,
Associate Director for Offshore Minerals Management.

[FR Doc. E7-14078 Filed 7-19-07; 8:45 am]

BILLING CODE 4310-MR-P